DEPARTMENT OF COMMERCE

National Oceanic and Atmospheric Administration

RIN 0648-XX69

Marine Mammals; File Nos. 14451, 14353, and 13846

AGENCY: National Marine Fisheries Service (NMFS), National Oceanic and Atmospheric Administration (NOAA), Commerce.

ACTION: Notice; issuance of permit amendments.

SUMMARY: Notice is hereby given that major permit amendments have been issued to Joseph Mobley, Jr., University of Hawaii at Manoa, 2528 McCarthy Mall, Honolulu, HI 96816; Ann Zoidis, Cetos Research Organization, 11 Des Isle Ave Bar Harbor, ME 04609; and Jim Darling, Ph.D., Whale Trust, P.O. Box 384, Tofino, BC V0R2Z0, Canada, for Scientific Research Permit Nos. 14451, 14353, and 13846, respectively.

ADDRESSES: The permit amendments and related documents are available for review upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

FOR FURTHER INFORMATION CONTACT: Kristy Beard or Carrie Hubard, (301) 427-8401.

SUPPLEMENTARY INFORMATION: On January 15, 2013, notice was published in the Federal Register (78 FR 2955) that the subject amendment requests had been submitted by the above-named applicants. The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 14451, issued on July 14, 2010 (75 FR 43151), authorizes the permit holder, Joseph Mobley, Jr., to study cetaceans off the east and west coast of the United States, Hawaii, Alaska, Guam, and the Mariana Islands. Researchers target numerous cetacean species including endangered blue whales (Balaenoptera musculus), fin whales (B. physalus), humpback whales (Megaptera novaeangliae), sei whales (B. borealis), and sperm whales (Physeter macrocephalus), during aerial and vessel surveys for photo-identification, videography, and behavioral observations. The permit includes authorization under the MMPA to take 205 false killer whales (Pseudorca crassidens) in Pacific waters off of Hawaii. Insular Hawaiian false killer whales were listed as endangered under the ESA in November 2012; therefore, the permit holder now requires authorization under the ESA to take Insular Hawaiian false killer whales. The permit amendment, Permit No. 14451-01, authorizes 180 of the false killer whale takes previously authorized by the permit to be takes of Insular Hawaiian false killer whales under the ESA.

Permit No. 14353, issued on July 14, 2010 (75 FR 43151), authorizes the permit holder, Ann Zoidis, to conduct scientific research on humpback and minke (B. acutorostrata) whales in Hawaiian waters. Research occurs annually from January through March. Humpback whale research is focused in the Au'au Channel near Maui. Research activities include photo-identification, behavioral observations, passive acoustic recording, and underwater photo/videography. Suction cup tags are deployed on humpback whales. Minke whales are approached for photo-identification anywhere within the main Hawaiian islands. The permit includes authorization under the MMPA for the incidental harassment of up to 1,000 false killer whales during activities in Pacific waters off of Hawaii. Insular Hawaiian false killer whales were listed as endangered under the ESA in November 2012; therefore, the permit holder now requires authorization under the ESA to take Insular Hawaiian false killer whales. The permit amendment, Permit No. 14353-01, authorizes the incidental harassment of Insular Hawaiian false killer whales under the ESA and expands the geographic area throughout the Hawaiian Islands, including the Northwestern Hawaiian Islands chain.

Permit No. 13846, issued on July 14, 2010 (75 FR 43151), authorizes the permit holder, Jim Darling, Ph.D., to study humpback whales in Hawaii (primarily off west Maui) and humpback and Eastern gray (Eschrichtius robustus) whales along the coastlines of Washington and Alaska. Researchers may conduct photo-identification, passive acoustic recording, behavioral observation (by vessel, underwater and aerial), videorecording, collection of sloughed skin, photogrammetry, biopsy sampling, playback experiments, and/or suction cup and implant tagging of target whales. The permit includes authorization under the MMPA for the incidental harassment of up to 150 false killer whales during playback experiments in Pacific waters off Hawaii. Insular Hawaiian false killer whales were listed as endangered under the ESA in November 2012; therefore, the permit holder now requires authorization under the ESA to take Insular Hawaiian false killer whales. The permit amendment, Permit No. 13846-02, authorizes the incidental harassment of Insular Hawaiian false killer whales under the ESA.

In compliance with the National Environmental Policy Act of 1969 (42 U.S.C. 4321 et seq.), a final determination has been made that the activities proposed are consistent with the Proposed Action Alternative in the Environmental Assessment for the Issuance of Scientific Research Permits for Research on Humpback Whales and Other Cetaceans (NMFS 2010). Based on the analyses in the EA, NMFS determined that issuance of the permits would not significantly impact the quality of the human environment and that preparation of an environmental impact statement was not required. That determination is documented in a Finding of No Significant Impact (FONSI), signed on May 9, 2013. The EA and FONSI are available upon request.

As required by the ESA, issuance of these permits was based on a finding that such permits: (1) Were applied for in good faith; (2) will not operate to the disadvantage of such endangered species; and (3) are consistent with the purposes and policies set forth in section 2 of the ESA.

Dated: May 20, 2013.
P. Michael Payne,
Chief, Permits and Conservation Division, Office of Protected Resources, National Marine Fisheries Service.

[FR Doc. 2013-12278 Filed 5-22-13; 8:45 am]

BILLING CODE 3510-22-P